DEPARTMENT OF EDUCATION

Privacy Act of 1974; System of Records—Federal Student Aid Application File (18-11-01)

AGENCY: Department of Education.

ACTION: Correction.

SUMMARY: The Chief Information Officer for the Department of Education publishes this correction to the Federal Student Aid Application File (18-11-01). This system was republished on June 4, 1999 (64 FR 30159) in response to the President's direction that agencies review system notices to be sure that each notice was current and accurately reflected how the system was used by the agency. In the process of converting this system of records to a newer, easier to read style, some of the routine uses that the Department decided to apply to all systems of records were dropped. This notice adds the intended routine uses to the system of records.

DATES: The routine uses added by this notice are effective on March 2, 2000.

FOR FURTHER INFORMATION CONTACT: Bill Burrow, Office of Chief Information Officer, U.S. Department of Education, 400 Maryland Avenue, SW., Room 5624 Regional Office Building 3, Washington, DC 20202-4580. Telephone: 202-401-0250. If you use a telecommunications device for the deaf (TDD), you may call the Federal Information Relay Service (FIRS) at 1-800-877-8339.

Individuals with disabilities may obtain this document in an alternate format (e.g., Braille, large print, audiotape, or computer diskette) on request to the contact person listed in the preceding paragraph.

SUPPLEMENTARY INFORMATION:

General

In a memorandum dated May 14, 1998, President Clinton directed executive departments and agencies (agencies) to conduct a thorough review for accuracy and completeness of all agency systems of records. He directed agencies to make sure that the routine uses continue to be necessary and compatible with the purposes for which they were collected.

On June 4, 1999, 64 FR 30105, the Department republished virtually all of its systems of records, including this system of records, in response to the President's memorandum. In that notice, the Department committed to using standard routine uses for all its revised systems. Unfortunately, the standard routine use for research was omitted from the Federal Student Aid Application File (18-11-01), due to technical errors. This notice adds this and other standard routine uses to that system of records. ED needs the research routine use in this system of records so that ED may conduct research on the extent to which applicants inaccurately report income needed to determine eligibility for various forms of student financial assistance. These routine uses do not affect the day-to-day operation of this system as its program specific routine uses were not affected by the technical errors.

Correction

In the Notice of New, Amended, Altered and Deleted Systems of Records published in the Federal Register on June 4, 1999 (64 FR 30105), make the following correction beginning on page 30160, in the first column, in the notice entitled “Federal Student Aid Application File (18-11-01),” under the heading “Routine Uses of Records Maintained in the System, Including Categories of Users and Purposes of Such Users,” add the following numbered paragraphs after paragraph (9):

(10) Employment, Benefit, and Contracting Disclosure.

(a) For Decisions by the Department.The Department may disclose a record to a Federal, State, or local agency maintaining civil, criminal, or other relevant enforcement or other pertinent records, or to another public authority or professional organization, if necessary to obtain information relevant to a Department decision concerning the hiring or retention of an employee or other personnel action, the issuance of a security clearance, the letting of a contract, or the issuance of a license, grant, or other benefit.

(b) For Decisions by Other Public Agencies and Professional Organizations. The Department may disclose a record to a Federal, State, local, or foreign agency or other public authority or professional organization, in connection with the hiring or retention of an employee or other personnel action, the issuance of a security clearance, the reporting of an investigation of an employee, the letting of a contract, or the issuance of a license, grant, or other benefit, to the extent that the record is relevant and necessary to the receiving entity's decision on the matter.

(11) Employee Grievance, Complaint or Conduct Disclosure. The Department may disclose a record in this system of records to another agency of the Federal Government if the record is relevant to one of the following proceedings regarding a present or former employee of the Department: Complaint, grievance, discipline or competence determination proceedings. The disclosure may only be made during the course of the proceeding.

(12) Labor Organization Disclosure. A component of the Department may disclose records to a labor organization if a contract between the component and a labor organization recognized under Title V of the United States Code, Chapter 71, provides that the Department will disclose personal records relevant to the organization's mission. The disclosures will be made only as authorized by law.

(13) Disclosure to the Department of Justice (DOJ). The Department may disclose records to the DOJ to the extent necessary for obtaining DOJ advice on any matter relevant to an audit, inspection, or other inquiry related to the programs covered by this system.

(14) Research Disclosure. The Department may disclose records to a researcher if an appropriate official of the Department determines that the individual or organization to which the disclosure would be made is qualified to carry out specific research related to functions or purposes of this system of records. The official may disclose records from this system of records to that researcher solely for the purpose of carrying out that research related to the functions or purposes of this system of records. The researcher shall be required to maintain Privacy Act safeguards with respect to the disclosed records.

(15) Disclosure to the Office of Management and Budget (OMB) for Credit Reform Act (CRA) Support. The Department may disclose records to OMB as necessary to fulfill CRA requirements.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader Program with Search, which is available free at either of the previous sites. If you have questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Dated: February 25, 2000.
Craig B. Luigart,
Chief Information Officer.

[FR Doc. 00-5120 Filed 2-29-00; 9:56 am]

BILLING CODE 4000-01-P